DEPARTMENT OF COMMERCE

Foreign-Trade Zones Board

[S-52-2012]

Foreign-Trade Zone 45—Portland, OR; Application for Subzone, Shimadzu USA Manufacturing, Inc., Canby, OR

An application has been submitted to the Foreign-Trade Zones Board (the Board) by the Port of Portland, grantee of FTZ 45, requesting special-purpose subzone status for the facility of Shimadzu USA Manufacturing, Inc. (SUM), located in Canby, Oregon. The application was submitted pursuant to the provisions of the Foreign-Trade Zones Act, as amended (19 U.S.C. 81a-81u), and the regulations of the Board (15 CFR part 400). It was formally docketed on May 8, 2012.

The proposed subzone is located at 1900 SE. 4th Avenue, Canby. A notification of proposed production activity has been submitted and will be published separately for public comment. The proposed subzone would be subject to the existing activation limit of FTZ 45.

In accordance with the Board's regulations, Christopher Kemp of the FTZ Staff is designated examiner to review the application and make recommendations to the Board.

Public comment is invited from interested parties. Submissions shall be addressed to the Board's Executive Secretary at the address below. The closing period for their receipt is June 25, 2012. Rebuttal comments in response to material submitted during the foregoing period may be submitted during the subsequent 15-day period to July 9, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Christopher Kemp at Christopher.Kemp@trade.gov or (202) 482-0862.

Dated: May 8, 2012.
Elizabeth Whiteman,
Acting Executive Secretary.

[FR Doc. 2012-11780 Filed 5-14-12; 8:45 am]

BILLING CODE P